DEPARTMENT OF TRANSPORTATION

Federal Aviation Administration

14 CFR Part 71

[Docket No. FAA-2013-0960; Airspace Docket No. 13-AGL-17]

RIN 2120-AA66

Modification and Revocation of Air Traffic Service (ATS) Routes; Northcentral United States

AGENCY: Federal Aviation Administration (FAA), DOT.

ACTION: Final rule.

SUMMARY: This action modifies two jet routes and three VOR Federal airways and removes three jet routes in the north central United States. The FAA is taking this action due to the scheduled decommissioning of the Peck, MI, VHF Omnidirectional Range (VOR) navigation aid (NAVAID), which provides navigation guidance for portions of the affected routes. The amendments for one jet route (J-38) and one VOR Federal airway (V-337) that were addressed in the notice of proposed rulemaking (NPRM) are withdrawn from this final rule as they are being amended in a separate rulemaking action. This action promotes flight safety and the efficient management of aircraft operating within the National Airspace System (NAS).

DATES: Effective date 0901 UTC, November 13, 2014. The Director of the Federal Register approves this incorporation by reference action under 1 CFR part 51, subject to the annual revision of FAA Order 7400.9 and publication of conforming amendments.

ADDRESSES: FAA Order 7400.9X, Airspace Designations and Reporting Points, and subsequent amendments can be viewed online at http://www.faa.gov/air_traffic/publications/. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15. For further information, you can contact the Airspace Policy and Regulations Group, Federal Aviation Administration, 800 Independence Avenue SW., Washington, DC, 20591; telephone: 202-267-8783.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

History

On February 13, 2014, the FAA published in the Federal Register a NPRM (79 FR 8637) to amend jet routes J-16, J-38, and J-94; remove jet routes J-546, J-551, and J-553; and amend VOR Federal airways V-84, V-216, V-320, and V-337 due to the scheduled decommissioning of the Peck VOR. Subsequent to publication, the FAA proposed another rulemaking action addressing multiple Air Traffic Service routes in the North Central and Northeast United States, which included amending J-38 and V-337, in support of Canada's airspace redesign project. The FAA has determined not to proceed with the modifications proposed for J-38 and V-337 in this docket. Interested parties were invited to participate in this rulemaking effort by submitting written comments on the proposal. One comment from the Aircraft Owners and Pilots Association (AOPA) was received.

Discussion of Comments

In their response, AOPA addressed the statement in the NPRM that the Peck VOR is not on the list of VORs planned for retention in the VOR Minimum Operational Network (MON) and argued it was premature to utilize the VOR MON draft criteria in the FAA's decision making process. Specifically, they stated, “the FAA is already using the [VOR MON] draft criteria to decommission or retain navigation aids (NAVAIDs).”

The determination to decommission the Peck VOR was made solely on the analysis and expectation of navigation signal degradation caused by the State of Michigan's initiative to provide renewable energy to the State with a planned construction of power transmission towers and lines within 1,400 feet of the Peck VOR. The FAA determined the integrity of the airways supported by the Peck VOR will be compromised due to modeling identifying bearing errors in excess of flight check tolerances at multiple azimuths around the NAVAID.

AOPA also commented in their response that air traffic control radar vectors should not be used to replace navigation infrastructure. They stated that the long-term use of radar vectors to mitigate the loss of navigation infrastructure is unrealistic and sets a dangerous precedent that this is an acceptable alternative to navigation infrastructure.

Effective upon the Peck VOR decommissioning, pilots that transit the area formerly serviced by the Peck VOR may either file and navigate point to point, using remaining NAVAIDs and fixes in the area, or use alternative airways if point to point navigation is not possible. Radar vectors, as addressed in the NPRM, is an additional option available to air traffic control for use as required, but is not intended or anticipated to be a routinely used method of controlling aircraft through that area. Rerouting and vectoring aircraft are safely accomplished within the NAS daily and does not set a dangerous precedent as suggested.

The Rule

The FAA is amending Title 14, Code of Federal Regulations (14 CFR) part 71 by modifying jet routes J-16, and J-94, and VOR Federal airways V-84, V-216, and V-320. The FAA is also removing jet routes J-546, J-551, and J-553. The scheduled decommissioning of the Peck VOR has made this action necessary. The route changes and removals are outlined below.

J-16: J-16 extends between the Battle Ground, WA, VORTAC and the Boston, MA, VOR/DME, excluding the airspace within Canada. The route segment from the Badger, WI, VORTAC to the London, ON, Canada, VOR/DME is removed.

J-94: J-94 extends between the Oakland, CA, VORTAC and the Boston, MA, VOR/DME, excluding the airspace within Canada. The route segment from the Flint, MI, VORTAC to the London, ON, Canada, VOR/DME is removed.

J-546: J-546 is removed.

J-551: J-551 is removed.

J-553: J-553 is removed.

V-84: V-84 extends between the Northbrook, IL, VOR/DME and the Syracuse, NY, VORTAC, excluding the airspace within Canada. The route segment between the Flint, MI, VORTAC and the London, ON, Canada, VOR/DME is removed.

V-216: V-216 extends between the Lamar, CO, VOR/DME and the Toronto, ON, Canada, VOR/DME, excluding the airspace within Canada. The route segment between the Janesville, WI, VOR/DME and the Toronto, ON, Canada, VOR/DME is removed.

V-320: V-320 extends between the Pellston, MI, VORTAC and the Toronto, ON, Canada, VOR/DME. The route segment between the Saginaw, MI, VOR/DME and the Toronto, ON, Canada, VOR/DME is removed.

The navigation aid radials cited in the jet route and VOR Federal airway descriptions are unchanged and stated relative to True north.

Jet routes are published in paragraph 2004 and VOR Federal airways are published in paragraph 6010(a), respectively, of FAA Order 7400.9X dated August 7, 2013, and effective September 15, 2013, which is incorporated by reference in 14 CFR 71.1. The jet routes and VOR Federal airways listed in this document will be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013 and effective September 15, 2013, is amended as follows:

Paragraph 2004 Jet Routes

* * * * *

J-16 [Amended]

From Battle Ground, WA; Pendleton, OR; Whitehall, MT; Billings, MT; Dupree, SD; Sioux Falls, SD; Mason City, IA; to Badger, WI. From London, ON, Canada; Buffalo, NY; Albany, NY; to Boston, MA; excluding the airspace within Canada.

* * * * *

J-94 [Amended]

From Oakland, CA; Manteca, CA; INT Manteca 047° and Mustang, NV, 208° radials; Mustang; Lovelock, NV; Battle Mountain, NV; Lucin, UT; Rock Springs, WY; Scottsbluff, NE; O'Neill, NE; Fort Dodge, IA; Dubuque, IA; Northbrook, IL; Pullman, MI; to Flint, MI. From London, ON, Canada; Buffalo, NY; Albany, NY; to Boston, MA; excluding the airspace within Canada.

* * * * *

J-546 [Removed]

* * * * *

J-551 [Removed]

* * * * *

J-553 [Removed]

* * * * *

Paragraph 6010 Domestic VOR Federal Airways

* * * * *

V-84 [Amended]

From Northbrook, IL; Pullman, MI; Lansing, MI; to Flint, MI. From London, ON, Canada; Buffalo, NY; Geneseo, NY; INT Geneseo 091° and Syracuse, NY, 240° radials; to Syracuse; excluding the airspace within Canada.

* * * * *

V-216 [Amended]

From Lamar, CO; Hill City, KS; Mankato, KS; Pawnee City, NE; Lamoni, IA; Ottumwa, IA; Iowa City, IA; INT Iowa City 062° and Janesville, WI, 240° radials; to Janesville.

* * * * *

V-320 [Amended]

From Pellston, MI; Traverse City, MI; Mount Pleasant, MI; to Saginaw, MI.

* * * * *

Issued in Washington, DC, on September 4, 2014.
Gary A. Norek,
Manager, Airspace Policy and Regulations Group.

[FR Doc. 2014-21577 Filed 9-10-14; 8:45 am]

BILLING CODE 4910-13-P